DEPARTMENT OF DEFENSE

Defense Logistics Agency

Notice of Proposed Solicitation for Cooperative Agreement Applications

AGENCY: Defense Logistics Agency, DOD.

ACTION: Proposed solicitation for cost sharing cooperative agreement applications.

SUMMARY: On March 17, 1999, the Defense Logistics Agency (DLA) issued a solicitation for cooperative agreement applications (SCAA) to assist state and local governments and other nonprofit eligible entities in establishing or maintaining procurement technical assistance centers (PTACs) pursuant to chapter 142, title 10, United States Code. These centers help business firms market their goods and service to the Department of Defense (DoD), other federal agencies, and state and/or local government agencies. Cooperative agreement awards made as a result of applications submitted in response to this solicitation contained provisions for the award of additional option awards through 2002. DLA now intends to issue another solicitation as a follow-on action to the March 17, 1999, SCAA in order to maintain continuity of the Procurement Technical Assistance Program. This solicitation, when issued, will govern the submission of applications for calendar years 2003 through 2007, inclusive. This proposed SCAA is available for review on the Internet Web site: http://www.dla.mil/db/scaa2003.pdf. Printed copies are not available for distribution.

You are invited to submit written comments concerning this proposed SCAA to: Headquarters, Defense Logistics Agency, Office of Small and Disadvantaged Business Utilization, 8727 John J. Kingman Road, Suite 1127, Ft. Belvoir, VA 22060-6221. Attn: Grants Officer.

All comments must be received by January 31, 2003, in order for them to be considered. DLA intends to post the proposed SCAA, when finalized, on the Internet in early March 2003. A future notice to be published in the Federal Register will announce this posting and the website address to be utilized in accessing the final SCAA and to submit applications.

FOR FURTHER INFORMATION CONTACT: Ms. Diana Maykowskyj at (703) 767-1656.

Anthony J. Kuders,
Program Manager, DoD Procurement Technical Assistance Program.

[FR Doc. 02-31412 Filed 12-12-02; 8:45 am]

BILLING CODE 3620-01-M